DEPARTMENT OF TRANSPORTATION

Federal Aviation Administration

[Summary Notice No. PE-2000-31]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before August 23, 2000.

ADDRESSES: Send comments on any petition in triplicate to: Federal Aviation Administration, Office of the Chief Counsel, Attn: Rule Docket (AGC-200), Petition Docket No. _____, 800 Independence Avenue, SW., Washington, D.C. 20591.

The petition, any comments received, and a copy of any final disposition are filed in the assigned regulatory docket and are available for examination in the Rules Docket (AGC-200), Room 915G, FAA Headquarters Building (FOB 10A), 800 Independence Avenue, SW., Washington, D.C. 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, D.C., on July 28, 2000.
Donald P. Byrne,
Assistant Chief Counsel for Regulations.

Dispositions of Petitions

Docket No.: 29869.

Petitioner: Dr. Hubert B. Bradburn.

Section of the FAR Affected: 14 CFR 135.251, 135.255, 135.353, and appendixes I and J of part 121.

Description of Relief Sought/Disposition: To permit Dr. Hubert B. Bradburn to conduct two local sightseeing flights at an airport in the vicinity of Hamden, CT, to raise funds for your church, for compensation or hire, without complying with certain anti-drug and alcohol misuse prevention requirements of part 135.

Grant, 05/16/0, Exemption No. 7210

Docket No.: 30018.

Petitioner: Mr. William Scholberg.

Section of the FAR Affected: 14 CFR 135.251, 135.255, 135.353, and appendixes I and J of part 121.

Description of Relief Sought/Disposition: To permit Mr. William Scholberg to conduct four local sightseeing flights, donated to the Saints Martha and Mary Episcopal Church's silent auction at an airport in the vicinity of Apple Valley, MN, for compensation or hire, without complying with certain anti-drug and alcohol misuse prevention requirements of part 135.

Grant, 05/17/00, Exemption No. 7213

Docket No.: 29939.

Petitioner: Galion Aviation Day Planning Committee.

Section of the FAR Affected: 14 CFR 135.251, 135.255, 135.353, and appendixes I and J of part 121.

Description of Relief Sought/Disposition: To permit Mr. Lyons and the GADPC to conduct local sightseeing flights at Galion Municipal Airport for the Galion Aviation Day on May 21, 2000, for compensation or hire, without complying with certain anti-drug and alcohol misuse prevention requirements of part 135.

Grant, 05/17/00, Exemption No. 7217

Docket No.: 30012.

Petitioner: Washington Pilots Association, Okanogan County Chapter.

Section of the FAR Affected: 14 CFR 135.251, 135.255, 135.351, and appendixes I and J to part 121.

Description of Relief Sought/Disposition: To permit WPAOCC to conduct local sightseeing flights at Chelan Municipal Airport for its one-day charitable airlift in May 2000, for compensation or hire, without complying with certain anti-drug and alcohol misuse prevention requirements of part 135.

Grant, 05/17/00, Exemption No. 7216

Docket No.: 30035.

Petitioner: Northern Indiana Aviation Museum.

Section of the FAR Affected: 14 CFR 135.251, 135.255, 135.353, and appendixes I and J to part 121.

Description of Relief Sought/Disposition: To permit NIAM to conduct local sightseeing flights at Goshen Airport, Goshen, Indiana, for its one-day C-45 Grand Roll Out Fly-In in May 2000, for compensation or hire, without complying with certain anti-drug and alcohol misuse prevention requirements of part 135.

Grant, 05/17/00, Exemption No. 7214

Docket No.: 29994.

Petitioner: Eastern Pennsylvania Chapter of the International Organization of Women Pilots.

Section of the FAR Affected: 14 CFR 135.251, 135.255, and appendixes I and J to part 121.

Description of Relief Sought/Disposition: To permit Eastern PA Chapter 99s to conduct local sightseeing flights at Mercer County Airport, Trenton, New Jersey, for its tow-day Pennies-A-Pound event in May 2000, for compensation or hire, without complying with certain anti-drug and alcohol misuse prevention requirements of part 135.

Grant, 05/17/00, Exemption No. 7215

Docket No.: 29966.

Petitioner: Dr. William R. McElwee.

Section of the FAR Affected: 14 CFR 135.251, 135.255, 135.353, and appendixes I and J to part 121.

Description of Relief Sought/Disposition: To permit Rev. Dr. William R. McElwee to conduct local sightseeing flights on one day at South Jersey Regional Airport for the Rotary Club of Haddonfield, New Jersey, for compensation or hire, without complying with certain anti-drug and alcohol misuse prevention requirements of part 135.

Grant, 05/18/00, Exemption No. 7218

Docket No.: 29188.

Petitioner: Civil Air Patrol.

Section of the FAR Affected: 14 CFR 61.113(e).

Description of Relief Sought/Disposition: To permit CAP to reimburse CAP members who are private pilots for fuel, oil, supplemental oxygen, fluids, lubricants, preheating, deicing, airport expenses, servicing, and maintenance expenses and certain per diem expenses incurred while serving on official U.S. Air Force-assigned CAP missions.

Grant, 05/18/00, Exemption No. 67771

[FR Doc. 00-19526 Filed 8-1-00; 8:45 am]

BILLING CODE 4910-13-M